ENVIRONMENTAL PROTECTION AGENCY

[FRL-7018-2]

Reissuance of the NPDES General Permit for Seafood Processors Operating Throughout Alaska in Waters of the United States (NPDES General Permit No. AK-G52-0000)

AGENCY: Environmental Protection Agency (EPA).

ACTION: Notice of Final NPDES General Permit No. AK-G52-0000 for Alaskan Seafood Processors.

SUMMARY: The Director, Office of Water, EPA Region 10 (EPA), is re-issuing the National Pollutant Discharge Elimination System (NPDES) general permit for operators of seafood processing facilities in Alaska, pursuant to the provisions of the Clean Water Act (CWA), 33 U.S.C. 1251 et seq. The permit authorizes discharges from off-shore vessels engaged in the processing of fresh, frozen, canned, smoked, salted or pickled seafood or the processing of seafood mince, paste or meal. The permit also authorizes discharges from operators of near-shore vessels and shore-based facilities engaged in the processing of fresh, frozen, canned, smoked, salted or pickled seafood, the processing of unwashed-mince, or the processing of meal and other secondary by-products. Discharges authorized under the permit include seafood processing wastewater and solid wastes, wash-down water, sanitary wastewater, and other wastewater generated in the seafood processing operation, as long as such discharges are in accordance with effluent limitations and treatment requirements specified in the permit. Discharges to numerous excluded areas are not authorized under the permit unless a specific waiver is received.

Pursuant to section 402 of the CWA, 33 U.S.C. 1342, EPA proposed and solicited comments on NPDES general permit AK-G52-0000 at 65 FR 21432 (April 21, 2000). EPA also published notice of the draft permit in the Anchorage Daily News (4/21/00) and EPA Region 10's Seafood Permitting Update newsletter (April 2000), and sent out over 300 letters of public notice by U.S. mail. EPA received comments from 17 members of the public and requests and recommendations from the U.S. Fish and Wildlife Service, the National Marine Fisheries Service, and five Alaskan tribes. EPA has prepared a response to the public comments and the recommendations and requests of the U.S. Fish and Wildlife Service, the National Marine Fisheries Service, and the five Alaskan tribes that comments, and has revised the draft permit as described in the response to comments. EPA has made additional revisions to the draft permit in accordance with the stipulations of the State of Alaska in its water quality certification.

DATES: General NPDES Permit AK-G52-0000 is effective today. No seafood discharger is covered by this permit until it receives a letter of authorization to discharge from EPA. For any permittee authorized to discharge by the previous permit effective on August 4, 1995, EPA intends to use any notice of intent (NOI) submitted by that permittee for extended coverage as that seafood processor's application for coverage under today's re-issued general permit, unless additional information is required or a waiver under the permit must be applied for. Applicants who have not previously submitted an NOI to EPA and who are seeking coverage under this general permit must submit a complete NOI in accordance with the requirements and forms of this re-issued general permit to EPA Region 10 within 90 days from the effective date of this general permit.

EPA intends to process these NOIs and respond to applicants during the next 90 days. EPA's response will specify when coverage begins for each permittee. No previous permittee will be required to comply with the new general permit until it has received a letter of authorization to discharge under the permit from EPA. The first day of coverage will be at least 30 days from the effective date of the permit, unless an applicant requests an earlier date. All coverage under the administratively extended version of NPDES general permit AK-G52-0000 that was effective on August 4, 1995, shall expire on December 31, 2001. Applicants which have not received coverage under the current NPDES general permit by January 1, 2002, could be found to be discharging without the authorization of an NPDES permit and therefore potentially subject to an enforcement action brought by EPA or a citizen.

ADDRESSES: EPA will send copies of both the permit and the response to comments to all past permittees and commenters. Anyone else who wants copies, or wishes to obtain copies more quickly, has three options: (1) Download Adobe Acrobat versions of the permit and response to comments from the table of final NPDES permits at the NPDES Permits Unit webpage at http://www.EPA.gov/r10earth/water.htm; (2) Request that copies of the permit and response to comments be mailed to you by calling Audrey Washington, NPDES Permits Clerk, at (206) 553-0523 or faxing your request to Attn: Audrey Washington at (206) 553-0165; or (3) Pick up a copy of the permit and response to comments from the EPA offices at: (a) 1200 Sixth Avenue, 12th floor Public Information Center, Seattle, Washington; (b) 222 West 7th Avenue, #19, Anchorage, Alaska; or (c) 410 Willoughby Avenue, Juneau, Alaska.

FOR FURTHER INFORMATION CONTACT: Burney Hill, Aquatic Environmental Scientist, NPDES Permits Unit, 206-553-1761 or hill.burney@epa.gov.

SUPPLEMENTARY INFORMATION: Clean Water Act, Section 401—The Alaska Department of Environmental Conservation has issued a Certification of Reasonable Assurance that the subject discharges comply with the Alaska State Water Quality Standards.

Clean Water Act, Section 403—EPA has completed an ocean discharge criteria evaluation of the discharges authorized by the permit and determined that these discharges will not cause irreparable harm or unreasonable degradation of the receiving waters.

Coastal Zone Management Act—The State of Alaska, Office of Management and Budget, Division of Governmental Coordination, has certified that NPDES general permit AK-G52-0000 is consistent with the approved Alaska Coastal Management Program.

Endangered Species Act—Consultation under the Endangered Species Act was conducted with the U.S. Fish and Wildlife Service and the National Marine Fisheries Service. The Services concurred with EPA that re-issuance of NPDES general permit AK-G52-0000 was not likely to adversely affect any species listed as threatened or endangered with the exception of the Alaskan subpopulation of Steller's eider (Polysticta stelleri), a sea duck. The U.S. Fish and Wildlife Service has issued a Biological Opinion on the effects of NPDES general permit AK-G52-0000, concluding that re-issuance is not likely to jeopardize the continued existence of the Alaska population of Steller's eider in the action area. The Biological Opinion also includes an “Incidental Take Statement” and requests specific “reasonable and prudent measures” for the general permit in order to protect this ESA-listed species.

Executive Order 12866—EPA has determined that this general permit is not a “significant regulatory action” under the terms of Executive Order 12866 and is therefore not subject to review by the U.S. Office of Management and Budget.

Regulatory Flexibility Act—Under the Regulatory Flexibility Act, 5 U.S.C. 601 et seq., a Federal agency must prepare an initial regulatory flexibility analysis for any proposed rule that is subject to the requirements of the Administrative Procedure Act and has a significant impact on a substantial number of small entities. EPA has determined that this general permit is a permit and that it is not a rulemaking. EPA finds that this general permit is not subject to the requirements of the rulemaking requirements of the Administrative Procedure Act.

Paperwork Reduction Act—Under the Paperwork Reduction Act, an agency cannot conduct or sponsor a collection of information unless the agency has conducted a review on the agency need for and burden on the public of that information collection, evaluated public comment on that review, submitted an information collection request to the Office of Management and Budget (OMB), and published notice of OMB approval of the information collection request. 44 U.S.C. 3501 et seq. Additionally, a person is not required to respond to a collection of information unless it displays a currently valid OMB control number. NPDES general permit AK-G52-0000 incorporates provisions that constitute collections of information. Specifically, the permit includes requirements for monitoring, reporting, and recordkeeping as required by NPDES regulations at 40 CFR part 122. OMB has approved information collection requests for those requirements via OMB control numbers 2040-0004, 2040-0086, and 2040-0110.

Appeal of the Permit—Within 120 days following today, the effective date of EPA's final permit decision, any interested person may appeal the general permit in the Federal Court of Appeals in accordance with section 509(b)(1) of the Clean Water Act. Persons affected by a NPDES general permit may not challenge the conditions of the permit as of right in further EPA proceedings. Instead, they may either challenge the general permit in court or apply for an individual permit and then challenge the issuance or denial of an individual NPDES permit.

Dated: July 18, 2001.
Randall F. Smith,
Director, Office of Water, Region 10.

[FR Doc. 01-18825 Filed 7-26-01; 8:45 am]

BILLING CODE 6560-50-P